ENVIRONMENTAL PROTECTION AGENCY

[ER-FRL-6668-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050216, ERP No. D-IBR-K65285-CA, San Luis Drainage Feature Re-evaluation Project, Provide Agricultural Drainage Service to the San Luis Unit, Several Counties, CA.

Summary: EPA has concerns about the In-Valley Disposal Alternatives because of uncertainties about treatments to remove selenium from drainage water, the lack of information on contaminant profile and disposal of biotreatment and reverse osmosis brine, and potential environmental effects of evaporation ponds and reuse areas. EPA has environmental objections to the San Francisco Delta and Pacific Ocean Disposal Alternatives because of potential adverse effects to the Delta, Estero Bay, and drinking water supply. Rating EO2.

EIS No. 20050222, ERP No. D-FAA-K51042-AZ, Phoenix Sky Harbor International Airport (PHX), Construction and Operation of a Terminal, Airfield and Surface Transportation, City of Phoenix, Maricopa County, AZ.

Summary: EPA expressed environmental concerns about documentation of alternatives that were eliminated and recommended additional mitigation measures for air quality. Rating EC2.

EIS No. 20050293, ERP No. D-WPA-K08030-AZ, Wellton-Mohawk Generating Facility Project, Construction and Operation a Natural Gas-Fired, Combined-Cycle, Electric Generating Stations, Approval for Right-of-Way, Yuma County, AZ.

Summary: EPA expressed environmental concerns about potential impacts to water quality, wildlife, and traditional cultural properties, and recommended a (1) commitment to specific additional mitigation measures described in the DEIS, (2) selection of pipeline route Option 2, and (3) construction of the double-circuit Ligurta-to-Dome Tap Transmission Line. EPA also requested additional information on air emissions, the regional natural gas pipelines, exhaust stack height variance, and need for local energy generation. Rating EC2.

EIS No. 20050318, ERP No. D-BIA-F65058-MI, Nottawaseppi Huron Band of Potawatomi Indians (the Tribe), Proposes Fee-to-Trust Transfer and Casino Project, Calhoun County, MI.

Summary: EPA expressed environmental concerns about potential impacts to waterbodies and traffic safety, and requested additional information on conservation measures. Rating EC2.

EIS No. 20050350, ERP No. D-COE-K30022-CA, Encinitas/Solana Beach Shoreline Protection Project, To Protect Public Safety and Reduce Storm-Related Damages to Coastal Structures, Cities of Encinitas and Solana Beach, San Diego County, CA.

Summary: EPA expressed environmental concerns about the project's impacts to water resources, endangered species, and air quality, and requested specific information regarding modeling and post-project monitoring for impacts to these resources. Rating EC2.

EIS No. 20050390, ERP No. D-NPS-H65026-IA, Hoover Creek Stream Management Plan, Implementation, Herbert Hoover National Historic Site, IA

Summary: EPA has no objections to the proposed project. Rating LO.

Final EISs

EIS No. 20050263, ERP No. F-AFS-K65280-CA, Power Fire Restoration Project, To Reduce Long-Term Fuel Loading for the Purpose of Reducing Future Severity and Resistance to Control, Amador Ranger District, Eldorado National Forest, Amado County, CA.

Summary: EPA continues to have concerns about ground disturbing logging methods in high risk watersheds, and recommends greater use of helicopter or skyline logging systems in order to minimize potential impacts to water resources.

EPA also recommend utilizing the results of water quality monitoring performed by other agencies in evaluating the environmental benefits of the final project design.

EIS No. 20050269, ERP No. F-AFS-K65279-CA, Freds Fire Restoration Project, To Reduce Long-Term Fuel Loading for the Purpose of Reducing Future Fire Severity and Resistance to Control, Eldorado National Forest, El Dorado County, CA

Summary: EPA has no objections to the project as described in the FEIS.

EIS No. 20050272, ERP No. F-NRS-L39060-OR, Williamson River Delta Restoration Project, To Restore and Maintain the Ecological Functions of the Delta, Williamson River, Klamath County, OR.

Summary: No comment letter was sent to the preparing agency.

EIS No. 20050364, ERP No. F-FHW-H40183-00, Council Bluffs Interstate System Improvements Project, Transportation Improvements, Missouri River on I-80 to east of I-480 Interchange, Tier 1, Pottawattamie County, IA and Douglas County, NE.

Summary: EPA has no objections to the proposed project.

EIS No. 20050372, ERP No. F-AFS-K65282-AZ, Pickett Lake and Padre Canyon Allotments Cattle Grazing Management, Authorization and Implementation, Coconino National Forest, Mormon Lake Ranger District, Coconino County, AZ.

Summary: EPA continues to have environmental concerns about the impacts of grazing on impaired meadow and grassland soils, and the sufficiency of wetlands vegetation protection necessary for successful pronghorn fawning.

EIS No. 20050402, ERP No. F-FHW-J40163-UT, Iron County Transportation Corridors, Construction from Station Road 56 to Exit 51 on Interstate 15, Funding and Right-of-Way Grant, Southwest of the Cedar City Limits, Iron County, UT.

Summary: EPA has no objections to the proposed project.

Dated: October 25, 2005.
Robert W. Hargrove,
Director, NEPA Compliance Division, Office of Federal Activities.

[FR Doc. 05-21545 Filed 10-27-05; 8:45 am]

BILLING CODE 6560-50-P